NATIONAL AERONAUTICS AND SPACE ADMINISTRATION

[Notice 04-08]

NASA Advisory Council, Aeronautics Research Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Aeronautics Research Advisory Committee (ARAC).

DATES: Wednesday, September 29, 2004, 8:30 a.m. to 5 p.m.; and Thursday, September 30, 2004, 8:30 a.m. to 12 noon.

ADDRESSES: National Aeronautics and Space Administration, 300 E Street, SW., Room 9H40, Washington, DC 20546.

FOR FURTHER INFORMATION CONTACT: Mrs. Mary-Ellen McGrath, Office of Aeronautics Research, National Aeronautics and Space Administration, Washington, DC 20546, (202) 358-4729.

SUPPLEMENTARY INFORMATION: The meeting will be open to the public up to the seating capacity of the room. The agenda for the meeting is as follows:

• Opening Remarks

• NASA Transformation

• Agency Mission Strategic Planning

• Joint Planning and Development Office Update

• Revision of Committee and Subcommittees

• Program Overviews

• Closing Comments

Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Mary-Ellen McGrath via e-mail at mary.E.mcgrath@nasa.gov or by telephone at (202) 358-4729. Persons with disabilities who require assistance should indicate this.

It is imperative that the meeting be held on these dates to accommodate the scheduling priorities of the key participants.

R. Andrew Falcon,
Advisory Committee Management Officer, National Aeronautics and Space Administration.

[FR Doc. 04-20332 Filed 9-7-04; 8:45 am]

BILLING CODE 7510-01-P